INTERNATIONAL TRADE COMMISSION

[Investigation Nos. 701-TA-750 and 731-TA-1728 (Final)]

Sol Gel Alumina-Based Ceramic Abrasive Grains From China; Determinations

On the basis of the record ¹ developed in the subject investigations, the United States International Trade Commission (“Commission”) determines, pursuant to the Tariff Act of 1930 (“the Act”), that an industry in the United States is materially injured by reason of imports of sol gel alumina-based ceramic abrasive grains from China, provided for in subheading 2818.10.20 of the Harmonized Tariff Schedule of the United States, that have been found by the U.S. Department of Commerce (“Commerce”) to be sold in the United States at less than fair value (“LTFV”) and subsidized by the government of China.2 3

¹ The record is defined in § 207.2(f) of the Commission's Rules of Practice and Procedure (19 CFR 207.2(f)).

² 90 FR 39366 and 39367 (August 15, 2025).

³ Commissioner Johanson determined that a U.S. industry is threatened with material injury by reason of imports of sol gel alumina-based ceramic abrasive grains from China.

Background

The Commission instituted these investigations effective November 25, 2024, following receipt of petitions filed with the Commission and Commerce by Saint-Gobain Ceramics & Plastics, Inc., Malvern, Pennsylvania. The final phase of the investigations was scheduled by the Commission following notification of a preliminary determination by Commerce that imports of sol gel alumina-based ceramic abrasive grains from China were subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register on June 2, 2025 (90 FR 23359). The public hearing in connection with the investigations, originally scheduled for August 7, 2025, was cancelled.⁴

⁴ 90 FR 38501, August 8, 2025.

The Commission made these determinations pursuant to §§ 705(b) and 735(b) of the Act (19 U.S.C. 1671d(b) and 19 U.S.C. 1673d(b)). It completed and filed its determinations in these investigations on September 19, 2025. The views of the Commission are contained in USITC Publication 5669 (September 2025), entitled Sol Gel Alumina-Based Ceramic Abrasive Grains from China: Investigation Nos. 701-TA-750 and 731-TA-1728 (Final).

By order of the Commission.
Issued: September 19, 2025.
Sharon Bellamy,
Supervisory Hearings and Information Officer.

[FR Doc. 2025-18449 Filed 9-23-25; 8:45 am]

BILLING CODE 7020-02-P